NATIONAL SCIENCE FOUNDATION

Agency Information Collection Activities: Comment Request; U.S. National Science Foundation (NSF) Innovation Corps (I-Corps™) Program Pre-Submission Executive Summary Form

AGENCY: National Science Foundation.

ACTION: Notice.

SUMMARY: The U.S. National Science Foundation (NSF) is announcing plans to renew this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by November 18, 2025 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: U.S. National Science Foundation (NSF) Innovation Corps (I-Corps™) Program Pre-submission Executive Summary Form.

OMB Control No.: 3145-0283.

Expiration Date of Approval: 12/31/2025.

Abstract: The goal of the NSF I-Corps program is to use experiential education to help entrepreneurial researchers reduce the time necessary to translate promising ideas from the laboratory bench to widespread implementation. In addition to accelerating technology translation, the NSF I-Corps program also seeks to reduce the risk associated with technology development conducted without insight into industry requirements and challenges.

The NSF I-Corps program consists of National I-Corps Teams (herein referred as I-Corps Teams) and Regional I-Corps Hubs (herein referred as I-Corps Hubs). I-Corps Teams are teams of scientists and engineers who explore the commercial potential of technologies developed in university laboratories through a standardized entrepreneurial training program. The I-Corps Hubs are a network of universities, NSF-funded researchers, established entrepreneurs, local and regional entrepreneurial communities, and other federal agencies, will work collaboratively to build, and sustain an innovation ecosystem that includes the participation of all Americans in innovation and entrepreneurship throughout the United States.

In order to participate in the I-Corps Teams program, researchers need to have had an active relevant and related research award with NSF within the past five years, or by participating in the NSF I-Corps Hubs program. These eligibility requirements make up part of the NSF I-Corps Program Pre-Submission Executive Summary Form, which is a pre-proposal submission requirement for teams of academic researchers or small businesses considering applying to the I-Corps Teams program. In order for these teams to apply to the I-Corps Teams program, they must first submit the I-Corps Executive Summary Form, which is then reviewed by the cognizant I-Corps Program Directors.

The I-Corps Executive Summary Form requests information on the members of the applying team (name, email address, and a brief biographical sketch to list each team member's qualifications), the eligibility pathway, and a description of the team's proposed technology innovation, which includes the intellectual property status, commercial application, and commercialization plan. The purpose of the pre-submission step is to ensure the teams applying to the NSF I-Corps (National) Teams program meet the following eligibility requirements:

1. Pathway of entry: NSF lineage or through recommendation by the I-Corps Hubs program;

2. Technical and/or commercial maturity level of the technology proposed;

3. Confirmation that the team members are currently in place (as opposed to not yet determined).

The data collection burden to the applicants will be limited to no more than 60 minutes of the respondents' time in each instance. Summaries of the collected data are also being used to respond to queries and inquiries from Congress, the public, NSF's external merit reviewers who serve as advisors, NSF's Office of the Inspector General, and other pertinent stakeholders.

Respondents: The respondents are typically Principal Investigators (PIs) at universities, founders, co-founders, and/or other key personnel of the small businesses.

Estimated Number of Annual Respondents: 1,000-1,500.

Burden on the Public: The overall annualized cost to the respondents is estimated to be $53,000-$79,500. The following table shows the annualized estimate of costs to PIs who are generally university professors. This estimated hourly rate is based on a report from the American Association of University Professors, “Annual Report on the Economic Status of the Profession, 2022-23,” Academe, March-April 2021, Survey Report Table 1. According to this report, the average salary of an associate professor across all types of doctoral-granting institutions (public, private-independent, religiously affiliated) was $110,945. When divided by the number of standard annual work hours (2,080), this calculates to approximately $53 per hour.

Respondent Type | Number of respondents | Burden hours per respondent | Average hourly rate | Estimated annual cost
PIs,(co-) Founders, Business Partners | 1,000-1,500 | 1 | $53 | $53,000-$79,500

Dated: September 16, 2025.
Suzanne H. Plimpton,
Reports Clearance Officer, National Science Foundation.

[FR Doc. 2025-18107 Filed 9-18-25; 8:45 am]

BILLING CODE 7555-01-P